DEPARTMENT OF COMMERCE

International Trade Administration

[A-533-841]

Notice of Final Determination of Sales at Less Than Fair Value: Bottle-Grade Polyethylene Terephthalate (PET) Resin From India

AGENCY: Important Administration, International Trade Administration, Department of Commerce.

Final Determination: We determine that bottle-grade PET resin from India is being, or is likely to be, sold in the United States at less than fair value, as provided in section 735 of the Tariff Act of 1930, as amended (the Act). The final weighted-average dumping margins are listed below in the Continuation of Suspension of Liquidation section of this notice.

DATES: Effective Date: March 21, 2005.

FOR FURTHER INFORMATION CONTACT: Daniel O'Brien or Saliha Loucif, AD/CVD Operations, Office 1, Import Administration, International Trade Administration, U.S. Department of Commerce, 14th Street and Constitution Avenue, NW., Washington, DC 20230; telephone (202) 482-1376 and (202) 482-1779, respectively.

Background

Since the publication of the preliminary determination of this investigation (see Notice of Preliminary Determination of Sales at Less Than Fair Value: Bottle-Grade Polyethylene Terephthalate (PET) Resin from India, 69 FR 62856, dated October 28, 2004. Preliminary Determinary), the following events have occurred:

In October and November 2004, we verified the questionnaire response of South Asian Petrochem, Ltd. (SAPL). The cost and sales verification reports were issued on January 10, 2005, and January 12, 2005, respectively. See Memorandum from Mark Todd, Senior Accountant, to Neal M. Halper, Director, Office of Accounting, Re: Verification of the Cost of Production and Constructed Value Data Submitted by South Asian Petrochem Ltd. (SAPL) in the Investigation of Bottle-Grade PET Resin from India, dated January 10, 2005, and Memorandum from Daniel O'Brien and Saliha Loucif, International Trade Compliance Analysts, to Susan Kuhbach, Director, Office 1, Re: Verification of the Sales Response of SAPL in the Investigation of Bottle-Grade PET Resin from India, dated January 12, 2005. These reports are on file in the Central Records Unit, Room B-099 of the main Department building (CRU).

On January 24, 2005, we received case briefs from the United States Bottle-Grade PET Resin Producers Coalition (the petitioner), and SAPL. On January 31, 2005, we received rebuttal briefs from the petitioner and SAPL. The petitioner requested a hearing on November 16, 2004, but withdrew its request on February 3, 2005. Consequently, no hearing was held.

Scope of Investigation

The merchandise covered by this investigation is bottle-grade polyethylene terephthalate (PET) resin, defined as having an intrinsic viscosity of at least 0.68 deciliters per gram but not more than 0.86 deciliters per gram. The scope includes bottle-grade PET resin that contains various additives introduced in the manufacturing processes. The scope does not include post-consumer recycle (PCR) or post-industrial recycle (PIR) bottle-grade PET resin; however, included in the scope is any bottle-grade PET resin blend of virgin PET bottle-grade resin and recycled PET (RPET). Waste and scrap PET are outside the scope of the investigation. Fiber-grade PET resin, which has an intrinsic viscosity of less than 0.68 deciliters per gram, is also outside the scope of the investigations.

The merchandise subject to this investigation is properly classified under subheading 3907.60.0010 of the Harmonized Tariff Schedule of the United States (HTSUS); however, merchandise classified under HTSUS subheading 3907.60.0050 that otherwise meets the written description of the scope is also subject to this investigation. Although the HTSUS subheadings are provided for convenience and customs purposes, the written description of the merchandise under investigation is dispositive.

Period of Investigation

The period of investigation (POI) is January 1, 2003, through December 31, 2003. This period corresponds to the four most recent fiscal quarters prior to the filing of the petition on March 24, 2004.

Facts Otherwise Available

In the Preliminary Determination, we based the dumping margin for the mandatory respondent, Reliance Industries, Ltd. (Reliance), on adverse facts available pursuant to sections 776(a) and 776(b) of the Act. The use of adverse facts available was warranted in this investigation because Reliance withdrew from the investigation on September 22, 2004. See Preliminary Determination. Nothing has changed since the Preliminary Determination was issued that would affect the Department's selection and application of facts available.

Reliance's withdrawal from the investigation significantly impeded this proceeding since the Department cannot accurately determine a margin for Reliance. Therefore, we maintain that Reliance has failed to cooperate by not acting to the best of its ability. In assigning a facts available rate, we have continued to use the corroborated margin from the Preliminary Determination, pursuant to section 776(c) of the Act. See Memorandum Regarding Corroboration of Data Contained in the Petition for Assigning Facts Available Rate, dated October 20, 2004. A complete explanation of both the selection and application of facts available can be found in the Preliminary Determination.

Verification

As provided in section 782(i) of the Act, we conducted verification of the sales and cost information submitted by SAPL. We used standard verification procedures, including examination of the relevant sales, cost, and financial records.

Analysis of Comments Received

All issues raised in the case and rebuttal briefs by parties to this review are addressed in the Issues and Decision Memorandum from Barbara E. Tillman, Acting Deputy Assistant Secretary for Import Administration, to Joseph A. Spetrini, Acting Assistant Secretary for Import Administration, dated March 14, 2005 (Decision Memorandum), which is hereby adopted by this notice. Attached to this notice as an appendix is a list of the issues which parties have raised and to which we have responded in the Decision Memorandum. Parties can find a complete discussion of all issues raised in this review and the corresponding recommendations in this public memorandum which is on file in the Department's CRU. In addition, a complete version of the Decision Memorandum can be accessed directly on the Web at http://ia.ita.doc.gov/frn/index.html. The paper copy and electronic version of the Decision Memorandum are identical in content.

Changes Since the Preliminary Determination

Based on our findings at verification and our analysis of comments received, we have made adjustments to the preliminary determination calculation methodologies in calculating the final dumping margin for SAPL. These adjustments are discussed in the Decision Memorandum.

Continuation of Suspension of Liquidation

In accordance with section 735(c)(1)(B) of the Act, we are directing U.S. Customs and Border Protection (CBP) to continue to suspend liquidation of all imports of subject merchandise from India that are entered, or withdrawn from warehouse, for consumption on or after the date of publication of this notice in the Federal Register. CBP shall continue to require a cash deposit or the posting of a bond equal to the amount by which the normal value exceeds the EP less the amount of the countervailing duty determined to constitute an export subsidy in the companion countervailing duty investigation. While we note that in the Preliminary Determination we indicated that we would reduce the “All Others” rate by the amount of SAPL's export subsidies, we have now determined that it is more appropriate to reduce the “All Others” rate by the amount of export subsidies found for the “All Others” in the companion countervailing duty investigation because it reflects the experiences of more than one company and is, therefore, more likely to reflect the actual experience of the non-investigated companies. These suspension-of-liquidation instructions will remain in effect until further notice. The weighted-average dumping margins are as follows:

Exporter/manufacturer | Weighted-average margin percentage
SAPL | 21.05
Reliance | 52.54
All Others | 21.05

ITC Notification

In accordance with section 735(d) of the Act, we have notified the International Trade Commission (ITC) of our determination. The ITC will determine, within 45 days, whether imports of subject merchandise from India are causing material injury, or threaten material injury, to an industry in the United States. If the ITC determines that material injury or threat of material injury does not exist, this proceeding will be terminated and all securities posted will be refunded or canceled. If the ITC determines that such injury does exist, the Department will issue an antidumping duty order directing CBP officials to assess antidumping duties on all imports of the subject merchandise entered, or withdrawn from warehouse for consumption on or after the effective date of the suspension of liquidation.

This notice also serves as the only reminder to parties subject to the administrative protective order (APO) of their responsibility concerning the disposition of proprietary information disclosed under APO in accordance with 19 CFR 351.305(a)(3), which continues to govern business proprietary information in this segment of the proceeding. Timely written notification of return/destruction of APO material or conversion to judicial protective order is hereby requested. Failure to comply with the regulation and the terms of an APO is a sanctionable violation.

This determination is issued and published in accordance with sections 735(d) and 777(i)(1) of the Act

Dated: March 14, 2005.
Joseph A. Spetrini,
Acting Assistant Secretary, for Import Administration.

Appendix I—List of Comments in the Issues and Decision Memorandum

Comment 1: Unreported Home Market Transactions

Comment 2: Date of Payment for Home Market Transactions

Comment 3: Home Market Sales Traces

Comment 4: Indirect Selling Expenses

Comment 5: Bank Charges for U.S. Sales

Comment 6: Cash Deposit Rate for Non-Selected Producer

Comment 7: Treatment of Non-Dumped Sales

Comment 8: Ministerial Error Allegations

Comment 9: Incorrectly Stated Amount for the Pre-operative Period

Comment 10: Imputed Depreciation for the Trial-Run Period

Comment 11: Miscellaneous Tax

Comment 12: Duty Drawback

Comment 13: Start-Up Costs

Comment 14: G&A and Financial Expense Ratio Denominators

Comment 15: Purchased Technical Services

Comment 16: Fixed Overhead Costs for Depreciation

[FR Doc. 05-5553 Filed 3-18-05; 8:45 am]

BILLING CODE 3510-DS-M